DEPARTMENT OF DEFENSE

Department of the Air Force

Performance Review Boards List of 2003 Members

Below is a list of individuals who are eligible to serve on the Performance Review Boards for the Department of the Air force in accordance with the Air Force Senior Executive Appraisal and Awards System.

Mr. Roger Blanchard, AF/DP

MG Ronald J. Bath, AF/XPX

Mr. David Hamilton, AF/TE

Mr. Grover L. Dunn, AF/ILI

Ms. Patricia J. Zarodkiewicz, AFMC/FM

Ms. Barbara Westgate, AF/XPP

Mr. Frank O. Tuck, ASC/FB

Mr. James R. Speer, SAF/AG

MG Stephen R. Lorenz, SAF/FMB

Mr. Blaise J. Durante, SAF/AQX

Mr. Fred Kuhn, SAF/IEI

Mr. Garry B. Richey, AMC/LG

Mr. Michael A. Aimone, SAF/IEB

Ms. Donna J. Back, ASC/FM

Mr. Michael Aimone, SAF/IEB

Mr. William Davidson, SAF/AA

MG Joseph B. Sovey, SAF/USA

Ms. Cheryl Roby, DASD/Resources

Mr. W. Kipling Atlee, Jr., SAF/GCM

Mr. David Burtt, CIFA

Mr. Wilson, USI

Pamela D. Fitzgerald,
Air Force Federal Register Liaison Officer.

[FR Doc. 03-17537 Filed 7-10-03; 8:45 am]

BILLING CODE 5001-05-P